ENVIRONMENTAL PROTECTION AGENCY

[CERCLA-10-2014-0057; FRL-9910-62-Region 10]

Proposed CERCLA Administrative Cost Recovery Settlement; Absorbent Technologies Site, Albany, OR

AGENCY: Environmental Protection Agency.

ACTION: Notice; request for public comment.

SUMMARY: In accordance with Section 122(i) of the Comprehensive Environmental Response, Compensation, and Liability Act, as amended (CERCLA), 42 U.S.C. 9622(i), notice is hereby given of a proposed administrative settlement for recovery of response costs incurred for the Absorbent Technologies Site located at 140 Queen Avenue SW., and 2830 Ferry Street SW., in Albany, Oregon. Under this proposed settlement, the settling parties are David L. Ellis, Pamela L. Ellis, Farouk H. Al-Hadi, Lombard Foods, Inc., an Oregon corporation, and the Bankruptcy Estate of Absorbent Technologies, Inc. The proposed settlement requires the settling parties to pay $250,000 to the EPA Hazardous Substance Superfund. Upon payment of this sum to EPA, the settling parties will be released from their obligations for payments to EPA for costs EPA incurred between October 15, 2013 and January 31, 2014. EPA has incurred additional response since January 31, 2014, and this settlement does not provide the settling parties with a release for claims for reimbursement of responses costs incurred after January 31, 2014. However, pursuant to the terms of the Settlement Agreement, EPA agrees not to file claims against the Bankruptcy Estate of Absorbent Technologies, Inc. in its bankruptcy proceeding.

For 30 days following the date of publication of this notice, the EPA will receive written comments relating to the proposed settlement. The EPA will consider all comments received and may modify or withdraw its consent to the settlement if comments received disclose facts or considerations which indicate that the settlement is inappropriate, improper, or inadequate. The EPA's response to any comments received will be available for public inspection at the U.S. EPA Region 10 Office, located at 1200 Sixth Avenue, Seattle, Washington 98101.

DATES: Comments must be submitted on or before June 11, 2014.

ADDRESSES: The proposed settlement is available for public inspection at the U.S. EPA Region 10 Office, located at 1200 Sixth Avenue, Seattle, Washington 98101. A copy of the proposed settlement may be obtained from Candace Smith, Regional Hearing Clerk, U.S. EPA Region 10, 1200 Sixth Avenue, Suite 900, Mail Stop ORC-158, Seattle, Washington 98101. Comments should reference Absorbent Technologies Site, and should be addressed to Ted Yackulic, Assistant Regional Counsel, U.S. EPA Region 10, Mail Stop ORC-158, 1200 Sixth Avenue, Suite 900, Seattle, Washington 98101.

FOR FURTHER INFORMATION CONTACT: Ted Yackulic, Assistant Regional Counsel, U.S. EPA Region 10, Mail Stop ORC-158, 1200 Sixth Avenue, Suite 900, Seattle, Washington 98101; (206) 553-1218.

SUPPLEMENTARY INFORMATION: The Absorbent Technologies Site is located at 140 Queen Avenue SW and 2830 Ferry Street SW in Albany, Oregon. Absorbent Technologies, Inc. operated a commercial agricultural chemical formulating business at both properties within the Site. Absorbent Technologies Inc.'s operations included the use and storage of hazardous substances at both the Queen Property and the Ferry Property. Before EPA became involved at the Site, Absorbent Technologies, Inc. had filed a Chapter 11 Bankruptcy petition. On or about October 11, 2013, Absorbent Technologies, Inc., ceased operations at and essentially abandoned both the Queen Property and Ferry Property. On October 15, 2013, the City of Albany requested that EPA assist it in addressing threats posed by the Site. EPA initiated its efforts on the Site on October 15, 2013, when it performed an initial evaluation of conditions at the Queen Property. After evaluating conditions at the Queen Property, EPA performed an emergency removal action at the Queen Property between October 16 and October 20, 2013. Absorbent Technologies, Inc. converted its bankruptcy proceeding from Chapter 11 to Chapter 7 on October 23, 2013. The settling parties conducted additional response actions at both the Queen Property and Ferry Property between October 21, 2013 and January 31, 2014 within the Site under the oversight of EPA. Between October 15, 2103 and January 31, 2014, EPA incurred approximately $399,151.14 performing or overseeing the performance of response actions at the Site. The settling parties include Absorbent Technologies Inc., the owners and operators of the Queen Property and the owner of the Ferry Property. David L. Ellis, Pamela L. Ellis, and Farouk H. Al-Hadi owned the Queen Property during the time period covered by the settlement agreement. Lombard Foods, Inc. owns the Ferry Property. Pursuant to the terms of the Settlement Agreement for Recovery of Response Costs, the settling parties will pay EPA $250,000. In return for the payment of this amount, EPA covenants not to sue the settling parties for response costs it incurred between October 15, 2013 and January 31, 2014. EPA continues to incur response costs at the Site, and EPA's covenant not to sue does not include costs incurred by EPA after January 31, 2014. In addition, pursuant to the terms of the Settlement Agreement, EPA agrees not to file claims against the Bankruptcy Estate of Absorbent Technologies, Inc. in its bankruptcy proceeding.

Dated: April 21, 2014.
Richard Albright,
Director, Office of Environmental Cleanup, U.S. Environmental Protection Agency, Region 10.

[FR Doc. 2014-10844 Filed 5-9-14; 8:45 am]

BILLING CODE 6560-50-P